DEPARTMENT OF VETERANS AFFAIRS

[OMB Control No. 2900-0783]

Agency Information Collection Activity Under OMB Review: Nonprofit Research and Education Corporations (NPCs)—Annual Report, Remediation Plans & Assessment Questionnaires

AGENCY: Veterans Health Administration, Department of Veterans Affairs.

ACTION: Notice.

SUMMARY: In compliance with the Paperwork Reduction Act (PRA) of 1995, this notice announces that the Veterans Health Administration (VHA), Department of Veterans Affairs (VA), will submit the collection of information abstracted below to the Office of Management and Budget (OMB) for review and comment. The PRA submission describes the nature of the information collection and its expected cost and burden, and it includes the actual data collection instrument.

DATES: Comments and recommendations for the proposed information collection should be sent by March 5, 2025.

ADDRESSES: To submit comments and recommendations for the proposed information collection, please type the following link into your browser: www.reginfo.gov/public/do/PRAMain, select “Currently under Review—Open for Public Comments,” then search the list for the information collection by Title or “OMB Control No. 2900-0783.”

FOR FURTHER INFORMATION CONTACT: VA PRA information: Maribel Aponte, 202-461-8900, vacopaperworkreduact@va.gov.

SUPPLEMENTARY INFORMATION:

Title: Nonprofit Research and Education Corporations (NPCs)—Annual Report, Remediation Plans & Assessment Questionnaires (VA Forms 10-10073, 10-10073A, 10-10073B, and 10-10073C).

OMB Control Number: 2900-0783. https://www.reginfo.gov/public/do/PRASearch.

Type of Review: Revision of a currently approved collection.

Abstract: Title 38 U.S.C. 7366, Accountability and Oversight, states “(b) each such corporation (NPC) shall submit to the Secretary (Department of Veterans Affairs (DVA)) an annual report providing a detailed statement of its operations, activities, and accomplishments during that year.” The individual NPC annual reports are combined into one NPC Annual Report to Congress. VA oversight of NPCs includes reviews, audits, self-assessments, and remediation plans. This information collection is used for oversight of NPCs and includes the following:

a. NPC Annual Report Template, VA Form 10-10073

b. NPC Audit Actions Items Remediation Plans, VA Form 10-10073A

c. NPPO Internal Control Questionnaire, VA Form 10-10073B

d. NPPO Operations Oversight Questionnaire, VA Form 10-10073C

NPC Annual Report Template, VA Form 10-10073

Since 1988, when the enabling legislation for the NPCs was passed, annual reports have been obtained from each NPC and combined into an NPC Annual Report to Congress. Congress uses the combined NPC Annual Report to Congress to monitor the progress of the overall NPC program it created. The NPC Annual Report to Congress is also used by top-level VA executives to evaluate the program and to recommend changes where needed. VHA's Nonprofit Oversight Board and the Nonprofit Program Office (NPPO) use both the combined NPC Annual Report to Congress and the individual NPC Annual Report Templates to monitor and oversee the NPCs. Trend analyses and other financial information are analyzed for each NPC and judgments made about each NPC's progress, financial viability, stewardship of assets, and accomplishments.

NPC Audit Actions Items Remediation Plans, VA Form 10-10073A

The NPC Audit Action Items Remediation Plans information collection is used to review the NPCs' remedies for audit deficiencies and recommendations. The major objective of the information collection is to help ensure proper corrective action. If any of the remediation plans submitted are inadequate, then the NPPO will make recommendations for sound, workable remedies.

NPPO Internal Control Questionnaire, VA Form 10-10073B

The NPPO Internal Control Questionnaire, or portions of it, will be used in conducting reviews, audits, and investigations of the NPCs. The major objective of the questionnaire is to uncover weaknesses and lapses in internal controls. The NPPO will then make recommendations for improved internal controls wherever there are weaknesses or lapses. The questionnaire also may be used as a voluntary self-assessment by the NPCs.

NPPO Operations Oversight Questionnaire, VA Form 10-10073C

The NPPO Operations Oversight Questionnaire, or portions of it, will be used in conducting operational reviews of the NPCs. The major objective of the questionnaire is to uncover operating problems and areas that need improvement. The NPPO will then make recommendations for operations improvements wherever problems or opportunities for improvement are found. The questionnaire also may be used as a voluntary self-assessment by the NPCs.

VHA does not anticipate any changes to the total annual number of responses or burden hours for this collection. However, there are some minor updates to the forms for clarification and to comply with current guidance on standard PRA language.

An agency may not conduct or sponsor, and a person is not required to respond to a collection of information unless it displays a currently valid OMB control number. The Federal Register Notice with a 60-day comment period soliciting comments on this collection of information was published at 89 FR 93906, November 27, 2024.

Total Annual Burden: 858 hours.

Total Annual Responses: 300.

Affected Public: Private Sector (Not-for-profit).

Estimated Annual Burden:

a. NPC Annual Report Template—273 hours.

b. NPC Audit Actions Items Remediation Plans—156 hours.

c. NPPO Internal Control Questionnaire—312 hours.

d. NPPO Operations Oversight Questionnaire—117 hours.

Estimated Average Burden per Respondent:

a. NPC Annual Report Template—210 minutes.

b. NPC Audit Actions Items Remediation Plans—142 minutes.

c. NPPO Internal Control Questionnaire—240 minutes.

d. NPPO Operations Oversight Questionnaire—90 minutes.

Frequency of Response:

a. NPC Annual Report Template—Once annually.

b. NPC Audit Actions Items Remediation Plans—1.5 times annually.

c. NPPO Internal Control Questionnaire—Once annually.

d. NPPO Operations Oversight Questionnaire—Once annually.

Estimated Number of Respondents:

e. NPC Annual Report Template—78.

f. NPC Audit Actions Items Remediation Plans—44.

g. NPPO Internal Control Questionnaire—78.

h. NPPO Operations Oversight Questionnaire—78.

Authority: 44 U.S.C. 3501 et seq.

Maribel Aponte,
VA PRA Clearance Officer, Office of Enterprise and Integration, Data Governance Analytics, Department of Veterans Affairs.

[FR Doc. 2025-02126 Filed 1-31-25; 8:45 am]

BILLING CODE 8320-01-P